DEPARTMENT OF HEALTH AND HUMAN SERVICES

Centers for Disease Control and Prevention

[CDC-2013-0016; NIOSH 129-A]

National Institute for Occupational Safety and Health (NIOSH) Personal Protective Technology (PPT) Program; Framework Document for the Healthcare Worker Personal Protective Equipment Action Plan

AGENCY: The National Institute for Occupational Safety and Health (NIOSH) of the Centers for Disease Control and Prevention (CDC), Department of Health and Human Services (HHS).

ACTION: Notice of draft document for public comment.

SUMMARY: The National Institute for Occupational Safety and Health (NIOSH) of the Centers for Disease Control and Prevention (CDC) announces the availability of a document titled “Framework for Setting the NIOSH PPT Program Action Plan for Healthcare Worker Personal Protective Equipment: 2013-2018”, now available for public comment at http://www.regulations.gov.

DATES: Public comment period: Comments must be received by Friday, September 13, 2013.

ADDRESSES: You may submit comments, identified by CDC-2013-0016 and Docket Number NIOSH-129-A, by either of the two following methods:

• Federal eRulemaking Portal: http://www.regulations.gov. Follow the instructions for submitting comments.

• Mail: NIOSH Docket Office, Robert A. Taft Laboratories, MS-C34, 4676 Columbia Parkway, Cincinnati, Ohio 45226.

Instructions: All information received in response to this notice must include the agency name and docket number (CDC-2013-0016; NIOSH-129-A). All relevant comments received will be posted without change to http://www.regulations.gov, including any personal information provided. All electronic comments should be formatted as Microsoft Word. Please make reference to CDC-2013-0016 and Docket Number NIOSH-129-A. Access to any prior background documents or previous comments received please go to NIOSH Docket 129 (http://www.cdc.gov/niosh/docket/archive/docket129.html).

SUPPLEMENTARY INFORMATION: The NIOSH personal protective technology (PPT) program publishes and periodically updates its research agenda on personal protective equipment (PPE) for healthcare workers. The research agenda or action plan describes the near term and long term strategy for the PPT program's research and intervention, standards development, and information dissemination program to improve the efficacy and effectiveness of PPE used in healthcare settings. Since the healthcare worker PPE action plan was last updated in 2010 (revision 4), several reports have been published that provide updated national priorities related to PPE for healthcare workers. For example, in 2011, the Institute of Medicine (IOM) published a report entitled Preventing Transmission of Pandemic Influenza and Other Viral Respiratory Diseases: Personal Protective Equipment for Healthcare Personnel Update 2010 that assessed the nation's progress on improving PPE for healthcare personnel exposed to infectious respiratory diseases and made recommendations to address research gaps (to access this document please go to http://www.regulations.gov).

The NIOSH PPT program has started the process to update the PPE for healthcare workers action plan for 2013-2018. A framework document titled “Framework for Setting the NIOSH PPT Program Action Plan for Healthcare Worker Personal Protective Equipment: 2013-2018” has been drafted to:

1. Identify proposed “recommendations” and “activities” to use in an updated healthcare worker PPE action plan;

2. Compare current NIOSH intramural and extramural program activities versus the proposed recommendations and activities;

3. Propose an overarching strategy for NIOSH PPT program management to prioritize among competing recommendations, activities, and future action steps; and

4. Outline the process planned for seeking stakeholder input on what “action steps” should be taken by NIOSH and the NIOSH PPT program to address the recommendations.

Comments are sought in three specific areas:

1. Proposed use of the 2011 IOM report recommendations as the basis for the 12 overarching recommendations and 36 activities in next revision of the action plan;

2. Proposed use of improving healthcare worker PPE compliance as the overarching goal for prioritization; and

3. Specific actions that NIOSH and the NIOSH PPT program should take to address the proposed recommendations

FOR FURTHER INFORMATION CONTACT: Dr. Ronald E. Shaffer, Senior Scientist, NIOSH NPPTL Office of the Director at RShaffer@cdc.gov, telephone (412) 386-4001, fax (412) 386-6617.

Dated: August 2, 2013.
John Howard,
Director, National Institute for Occupational Safety and Health, Centers for Disease Control and Prevention.

[FR Doc. 2013-19273 Filed 8-8-13; 8:45 am]

BILLING CODE 4163-19-P